ENVIRONMENTAL PROTECTION AGENCY

40 CFR Part 82

[FRL-7633-1]

Protection of Stratospheric Ozone: Notice of Data Availability; New Information Concerning SNAP Program Proposal on HCFC-141b Use in Foams

AGENCY: Environmental Protection Agency (EPA).

ACTION: Notice of data availability and request for comment.

SUMMARY: The Environmental Protection Agency is making available to the public information related to a July 11, 2000 proposed rule under the Significant New Alternatives Policy (SNAP) Program under section 612 of the Clean Air Act. The SNAP program reviews alternatives to Class I and Class II ozone depleting substances and approves use of alternatives which reduce the overall risk to public health and the environment. The July 11, 2000 proposed rule concerned use of several hydrochlorofluorocarbons (HCFCs) in foam blowing applications. On July 22, 2002, EPA took final action with respect to a number of the HCFCs, but deferred its decision on the use of HCFC-141b in foam blowing applications due to the pending production and import ban of HCFC-141b (January 1, 2003) and incomplete information regarding the technical viability of alternatives. Since that publication, EPA received information from outside parties through letters, meetings, and the HCFC-141b Exemption Allowance Petition process (68 FR 2819) that addresses the use of HCFC-141b in foam blowing applications. Today, the Agency is making available for public review and comment information on alternatives to HCFC-141b currently used in each sector, and on the import of pre-blended HCFC-141b polyurethane systems. We plan to consider this information and any comment received during the comment period in determining what future action to take on our July 11, 2000 proposal regarding the use of HCFC-141b in foam blowing applications.

We are not soliciting comments on any other topic. In particular, we are not soliciting comments on the final SNAP foam rule published on July 22, 2002 (67 FR 47703) or the final HCFC allowance allocation rule, including the HCFC-141b exemption allowance petition process published on January 21, 2003 (68 FR 2819).

DATES: We will accept comments on the new data through April 9, 2004.

ADDRESSES: Comments may also be submitted electronically, by facsimile, or through hand delivery/courier. Follow the detailed instructions as provided at the beginning of the supplementary information section.

FOR FURTHER INFORMATION CONTACT: For further information about this notice, contact Suzie Kocchi by telephone at (202) 343-9387, or by e-mail at kocchi.suzanne@epa.gov. Overnight or courier deliveries should be sent to the office location at 1310 L Street, NW, Washington, DC 20005. Notices and rulemakings under the SNAP program are available on the Internet at http://www.epa.gov/ozone/snap/regs.

SUPPLEMENTARY INFORMATION:

Table of Contents

I. General Information

A. How Can I Get Copies Of Related Information?

B. How and To Whom Do I Submit Comments?

C. How Should I Submit CBI To the Agency?

II. What is today's action?

III. What information is EPA making available for review and comment?

IV. Where can I get the data being made available for comment?

V. Why is EPA making this data available?

VI. What is EPA not taking comment on?

VII. What supporting documentation do I need to include in my comments?

I. General Information

A. How Can I Get Copies of Related Information?

1. Docket

EPA has established an official public docket for this action under Docket ID No. OAR-2003-0228 (continuation of Docket A-2000-18). The official public docket consists of the documents specifically referenced in this action, any public comments received, and other information related to this action. Hard copies of documents from prior to the public comment period are found under Docket ID No. A-2000-18. Although a part of the official docket, the public docket does not include Confidential Business Information (CBI) or other information whose disclosure is restricted by statute. The official public docket is the collection of materials that is available for public viewing at the Air and Radiation Docket in the EPA Docket Center, (EPA/DC) EPA West, Room B102, 1301 Constitution Ave., NW., Washington, DC. The EPA Docket Center Public Reading Room is open from 8:30 a.m. to 4:30 p.m., Monday through Friday, excluding legal holidays. The telephone number for the Reading Room is (202) 566-1742, and the telephone number for the Air and Radiation Docket is (202) 566-1742.

2. Electronic Access

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. Although not all docket materials may be available electronically, you may still access any of the publicly available docket materials through the docket facility identified in section I.B.1. above.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

B. How and to Whom Do I Submit Comments?

You may submit comments electronically, by mail, by facsimile, or through hand delivery/courier. To ensure proper receipt by EPA, identify the appropriate docket identification number in the subject line on the first page of your comment. Please ensure that your comments are submitted within the specified comment period. Comments received after the close of the comment period will be marked “late.” EPA is not required to consider these late comments. If you wish to submit CBI or information that is otherwise protected by statute, please follow the instructions in section I.D. Do not use EPA Dockets or e-mail to submit CBI or information protected by statute.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in Docket ID No. OAR-2003-0228. The system is an “anonymous access” system, which means EPA will not know your identity, e-mail address, or other contact information unless you provide it in the body of your comment.

Comments may be sent by electronic mail (e-mail) to A-And-R-Docket@epa.gov, Attention Docket ID No. OAR-2003-0228. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

You may submit comments on a disk or CD ROM that you mail to the mailing address identified in section I.B.1. These electronic submissions will be accepted in WordPerfect or ASCII file format. Avoid the use of special characters and any form of encryption.

2. By Mail. Send two copies of your comments to: Air and Radiation Docket, Environmental Protection Agency, Mailcode: 6102T, 1200 Pennsylvania Ave., NW., Washington, DC, 20460, Attention Docket ID No. OAR-2003-0228.

3. By Hand Delivery or Courier. Deliver your comments to: EPA Docket Center, (EPA/DC) EPA West, Room B102, 1301 Constitution Ave., NW, Washington, DC., Attention Docket ID No. OAR-2003-?. Such deliveries are only accepted during the Docket's normal hours of operation as identified in section I.B.1.

4. By Facsimile. Fax your comments to: 202-566-1741, Attention Docket ID. No. OAR-2003-0228.

C. How Should I Submit CBI to the Agency?

Do not submit information that you consider to be CBI electronically through EPA's electronic public docket or by e-mail. Send or deliver information identified as CBI only to the following address: Suzie Kocchi, U.S. EPA, 8th floor, 1310 L Street NW, Washington DC 20005 via overnight delivery service, Attention Docket ID No. OAR-2003-0228. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person identified in the FOR FURTHER INFORMATION CONTACT section.

II. What Is Today's Action?

Today, we are making information available on foam blowing applications that could be potentially affected by a Significant New Alternatives Policy (SNAP) action under section 612 of the Clean Air Act. The proposed action, published in the Federal Register on July 11, 2000 (65 FR 42653) addressed use of various HCFCs in foam end-uses. Part of that proposed rule was a proposal to list HCFC-141b as unacceptable in all foam end-uses, with existing users grandfathered until January 1, 2005 (65 FR 42653). The Agency allowed 60 days for public comment and received 45 responses to the proposal by the close of the comment period (September 11, 2000). The Agency received comments from chemical manufacturers, appliance manufacturers, spray foam manufacturers, associations, and others. Copies can be obtained through the Air Docket by referencing A-2000-18, IV-D-1 through 45 (see ADDRESSES section above for docket contact info). On July 22, 2002 (67 FR 47703), EPA took final action on other aspects of the July 11, 2000 proposed rule but deferred final action on the proposal to list HCFC-141b as unacceptable.

Since the publication of the final rule when EPA deferred the decision on the use of HCFC-141b in foam blowing applications, the Agency has acquired additional information pertaining to the availability and technical viability of alternatives and the import of pre-blended HCFC-141b polyurethane systems. This information was obtained through meetings held at the request of industry representatives, letters sent directly to the Agency and information presented through the HCFC-141b exemption allowance petition process. The purpose of making data available for comment is to ensure that information provided to the Agency since the publication of the final rule (July 22, 2002) is accurate and complete. We plan to consider this information and any comment received on these data during the comment period in determining what future action to take on our July 11, 2000 proposal regarding the use of HCFC-141b in foam blowing applications.

III. What Information Is EPA Making Available for Review and Comment?

Since the publication of the final rule, EPA has received 7 additional comments in response to its July 2000 proposal on HCFC-141b. These comment letters can be obtained through the Air Docket, OAR-2003-0228 reference numbers 2-8. The letters address the technical viability and availability of alternatives of HCFC-141b and the import of pre-blended HCFC-141b polyurethane systems.

Additional information was submitted to EPA through the 2003 and 2004 HCFC-141b exemption allowance petition processes. Formulators of HCFC-141b are eligible to submit petitions to EPA requesting that they be allowed to obtain new production of HCFC-141b beyond the phaseout date of January 1, 2003. The petitions include information on the availability of stockpiled HCFC-141b, the technical constraints justifying the continued use of HCFC-141b, and the research and development of alternatives as well as the other information required by 40 CFR 82.16(h). Although the submitters of each individual petition has claimed the information in its petition as confidential business information, the Agency is including a memo summarizing the aggregate findings from the petition processes, without any reference to specific companies, products or any other information considered to be confidential. The Agency is considering the use of some of this information for the purposes of taking final action on the proposal. This document can be obtained through the Air Docket, OAR-2003-0228 reference number 9.

The Agency is seeking comments on the accuracy and thoroughness of the information described above, specifically:

—Overview of technical viability of alternatives to HCFC-141b

(a) Comments from the polyurethane spray foam industry and contractors

(b) Comments from the polyurethane systems houses

(c) Comments from the polyurethane foam blowing agent suppliers

—Memo on the import of pre-blended polyurethane foam systems containing HCFC-141b

EPA has also provided an updated table of the transition from HCFCs to alternatives for all foam applications, available through Air Docket, OAR-2003-0228 reference number 10. EPA is soliciting comment on the accuracy of the information presented in the table. In addition to obtaining comments on the accuracy of the information provided, the Agency would like to know if there are other foam applications in which HCFC-141b is still used as a blowing agent not listed in the table.

IV. Where Can I Get the Data Being Made Available for Comment?

All of the data in which we are seeking comment can be obtained through the Air Docket (see SUPPLEMENTAL INFORMATION section above for docket contact info). Reference numbers are as follows:

—Overview of technical viability of alternatives to HCFC-141b

(a) Comments from the polyurethane spray foam industry and contractors Air Docket, OAR-2003-0228 reference numbers 2 and 6

(b) Comments from the polyurethane systems houses Air Docket, OAR-2003-0228 reference numbers 3 and 4

(c) Comments from the polyurethane foam blowing agent suppliers Air Docket, OAR-2003-0228 reference numbers 5 and 7

—Memo on the import of pre-blended polyurethane foam systems containing HCFC-141b Air Docket, OAR-2003-0228 reference number 8

—Synopsis of information gathered in the HCFC-141b Exemption Allowance Process Air Docket, OAR-2003-0228 reference number 9

—Table summarizing the transition status from HCFCs to alternatives by application Air Docket, OAR-2003-0228 reference number 10

V. Why Is EPA Making This Data Available?

We are soliciting comment on this new information to ensure that we use the best information available when we determine how to proceed on our July 11, 2000 proposal to list HCFC-141b as unacceptable. Because the information on which we are seeking comment will be considered by EPA in determining how to proceed on our proposal regarding the use of HCFC-141b in foam blowing applications, the Agency is providing the public with an opportunity to comment on the quality of the available information. This information will be used to ensure that issues relating to the technical viability of alternatives and industry impacts are fully considered by EPA prior to moving forward with a rulemaking in the foams sector.

VI. What Is EPA Not Taking Comment On?

EPA is only accepting comments on accuracy and completeness of the information outlined in today's Federal Register notice. EPA is not accepting comment on the following:

—HCFC foam final rule published on July 22, 2002 (67 FR 47703)

—HCFC final Allowance System for Controlling HCFC Production, Import and Export rule published on January 21, 2003 (68 FR 2819)

—HCFC-141b Exemption Allowance petition process established by the HCFC final Allowance System for Controlling HCFC Production, Import and Export rule published on January 21, 2003 (68 FR 2819)

VII. What Supporting Documentation Do I Need To Include in My Comments?

Please provide any published studies or raw data supporting your position.

Dated: February 23, 2004.
Brian McLean,
Director, Office of Atmospheric Programs, Office of Air and Radiation.

[FR Doc. 04-5285 Filed 3-9-04; 8:45 am]

BILLING CODE 6560-50-P